DEPARTMENT OF ENERGY

Federal Energy Regulatory Commission

[Project No. 4334-017]

EONY Generation Limited; Notice of Application Tendered for Filing With The Commission and Soliciting Additional Study Requests and Establishing Procedural Schedule for Relicensing and a Deadline for Submission of Final Amendments

Take notice that the following hydroelectric application has been filed with the Commission and is available for public inspection.

a. Type of Application: New Major License.

b. Project No.: 4334-017.

c. Date filed: January 28, 2021.

d. Applicant: EONY Generation Limited (EONY).

e. Name of Project: Philadelphia Hydroelectric Project.

f. Location: On the Indian River, in the Village of Philadelphia in Jefferson County, New York. The project does not occupy any federal land.

g. Filed Pursuant to: Federal Power Act 16 U.S.C. 791(a)-825(r).

h. Applicant Contact: Franz Kropp, Director, Generation, EONY, 7659 Lyonsdale Road, Lyons Falls, NY 13368; (613) 225-0418, ext. 7498. Murray Hall, Manager, Generation, EONY, 7659 Lyonsdale Road, Lyons Falls, NY 13368; (613) 382-7312.

i. FERC Contact: Emily Carter at (202) 502-6512, or Emily.Carter@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: March 29, 2021.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Philadelphia Hydroelectric Project (P-4334-017).

m. The application is not ready for environmental analysis at this time.

n. Project Description: The existing Philadelphia Hydroelectric Project consists of (1) a 65-acre reservoir at a normal maximum water surface elevation of 475.4 feet; ¹ (2) two concrete dams joined by an island and designated as the east diversion dam, which is 60 feet long and 2 to 3 feet high with a crest elevation of 474.4 feet, and topped with 1.2-foot-high flashboards, and the west diversion dam, which has two sections totaling approximately 30 feet long and 10.4 feet high with a crest elevation of 475.4 feet; (3) a 45-foot-long non-overflow section that includes a reinforced concrete intake structure; (4) a 377-foot-long, 9.5-foot-diameter concrete penstock; (5) a 54.5-foot-long by 30-foot-wide reinforced concrete powerhouse; (6) one 3.645-megawatt horizontal Kaplan-type turbine-generator unit; (7) trashracks with 2.5-inch clear spacing; (8) a 4,160-volt, approximately 50-foot-long buried transmission line; (9) a switchyard; and (10) appurtenant facilities. The average annual generation was 10,092,492 kilowatt-hours for the period from 2016 to 2020.

¹ All elevations are in National Geodetic Vertical Datum of 1929.

EONY currently operates the project in run-of-river mode and discharges a minimum flow of 20 cubic feet per second (cfs) into the project's 1,250-foot-long bypassed reach to project aquatic resources.

As part of the license application, EONY filed a settlement agreement entered into between itself, the U.S. Fish and Wildlife Service, and the New York State Department of Environmental Conservation. As part of the settlement agreement, EONY proposes to: (1) Continue to operate the project in a run-of-river mode; (2) provide a minimum flow in the bypassed reach of 28 cfs; ² (3) install seasonal trashracks with 1-inch spacing; (4) implement a Trashrack Operations and Maintenance Plan, a Bat and Eagle Protection Plan, an Invasive Species Management Plan, and an Impoundment Drawdown and Cofferdam Plan; and (5) implement several improvements to an existing fishing platform to make it accessible to persons with disabilities, including the addition of an accessible parking space, an associated access aisle and access route from the accessible parking space to the fishing platform, and modifications to the railing surrounding the fishing platform.

² EONY determined that the proposed 28-cfs minimum flow would not result in incremental losses of generation compared to the current condition because the field measurement of the existing minimum flow was approximately 28 cfs, which accounted for flashboard leakage and was most likely present during the term of the existing license.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-4334). At this time, the Commission has suspended access to the Commission's Public Reference Room due to the proclamation declaring a National Emergency concerning the Novel Coronavirus Disease (COVID-19) issued by the President on March 13, 2020. For assistance, contact FERC at FERCOnlineSupport@ferc.gov or call toll-free, (866) 208-3676 or (202) 502-8659 (TTY).

You may also register online at https://ferconline.ferc.gov/FERCOnline.aspx to be notified via email of new filings and issuances related to this or other pending projects. For assistance, contact FERC Online Support.

p. Procedural schedule: The application will be processed according to the following preliminary schedule. Revisions to the schedule will be made as appropriate.

Issue Deficiency Letter (if necessary)—March 2021

Request Additional Information—March 2021

Issue Acceptance Letter—June 2021

Issue Scoping Document 1 for comments—July 2021

Request Additional Information (if necessary)—September 2021

Issue Scoping Document 2—October 2021

Issue Notice of Ready for Environmental Analysis—October 2021

q. Final amendments to the application must be filed with the Commission no later than 30 days from the issuance date of the notice of ready for environmental analysis.

Dated: February 11, 2021.
Nathaniel J. Davis, Sr.,
Deputy Secretary.

[FR Doc. 2021-03271 Filed 2-17-21; 8:45 am]

BILLING CODE 6717-01-P